DEPARTMENT OF STATE

[Public Notice 6011]

Exchange Visitor Program—Au Pair Requirements

ACTION: Notice with request for comments.

DATES: The Department will accept comments from the public up to 60 days from date of publication in the Federal Register.

ADDRESSES: You may submit comments by any of the following methods:

• Persons with access to the Internet may view this notice and provide comments by going to the regulations.gov Web site at: http://www.regulations.gov/index.cfm.

• Mail (paper, disk, or CD-ROM submissions): U.S. Department of State, Office of Exchange Coordination and Designation, SA-44, 301 4th Street, SW., Room 734, Washington, DC 20547

• E-mail: jexchanges@state.gov. You must include the Public Notice number in the subject line of your message.

FOR FURTHER INFORMATION CONTACT: Stanley S. Colvin, Director, Office of Exchange Coordination and Designation, U.S. Department of State, SA-44, 301 4th Street, SW., Room 734, Washington, DC 20547; 202-203-5096 or e-mail at jexchanges@state.gov.

SUMMARY: As a component of its Public Diplomacy and people to people exchanges, the Department of State oversees the Au pair Program whereby foreign nationals are afforded the opportunity to live with an American host family and participate directly in the home life of the host family. All au pair participants provide child care services to the host family and attend a U.S. post-secondary educational institution. Au pair participants provide up to forty-five hours of child care services per week and pursue not less than six semester hours of academic credit or its equivalent during their year of program participation. Some au pairs participate in the EduCare program. These au pairs provide up to thirty hours of child care services per week and pursue not less than twelve semester hours of academic credit or its equivalent during their year of program participation. Approximately 15,000 foreign nationals begin participation in this program each year.

In February 2004, the Department announced a pilot program whereby Department designated au pair sponsors could request the extension of program participation beyond the original 12-month maximum period afforded au pair participants. In June of 2006, following a review of the two-year pilot program, the Department amended program regulations to permit designated sponsors to submit requests to the Department for consideration of program extensions for six, nine or 12 month durations for first-year au pair participants beyond the maximum duration of participation allowed under the existing regulations.

As the au pair program enters its twentieth year of operation, the Department has been asked to consider amending the age eligibility requirement for au pair participants by increasing the age limitation from 26 to 30. Further, the Department has been asked to consider permitting foreign nationals who previously participated in the au pair program to repeat program participation.

The Department hereby solicits comments from the general public and other interested parties regarding these two issues. This certification will be published in the Federal Register.

Dated: November 26, 2007.
Stanley S. Colvin,
Director, Office of Exchange Coordination and Designation, Bureau of Educational and Cultural Affairs, Department of State.

[FR Doc. E7-23883 Filed 12-7-07; 8:45 am]

BILLING CODE 4710-05-P